FEDERAL COMMUNICATIONS COMMISSION

Privacy Act System of Records

AGENCY: Federal Communications Commission (FCC, Commission, or the Agency).

ACTION: Notice; one new Privacy Act system of records; two deleted systems of records.

SUMMARY: Pursuant to subsection (e)(4) of the Privacy Act of 1974, as amended (“Privacy Act”), 5 U.S.C. 552a, the FCC proposes to add one new, consolidated system of records, FCC/OIG-3, “Investigative Files.” FCC/OIG-3, “Investigative Files” will incorporate the information, e.g., personally identifiable information (PII), presently covered by two OIG systems of records, FCC/OIG-1, “Criminal Investigative Files,” and FCC/OIG-2, “General Investigative Files,” and also add new and updated information that pertains to the mission and activities of the FCC's Office of Inspector General (OIG). Upon both the approval and deployment of FCC/OIG-3, the Commission will cancel FCC/OIG-1 and FCC/OIG-2. The purposes for adding this new system of records, FCC/OIG-3, “Investigative Files,” are for the OIG to use the records in this system of records to pursuant to the Inspector General Act of 1978, as amended, for the purposes of:

Conducting and documenting investigations initiated and/or referred by or to OIG or other investigative agencies regarding FCC programs and operations and reporting the results of investigations to other Federal agencies, other public authorities or professional organizations that have the authority to bring criminal prosecutions or civil or administrative actions, or to impose other disciplinary sanctions;

Documenting the outcome of OIG investigations;

Maintaining a record of the activities that were the subject of investigations;

Reporting investigative findings to the Commission management about problems and deficiencies in the FCC's programs and operations or to suggest corrective action in reference to identified irregularities, problems or deficiencies;

Maintaining a record of complaints and allegations received relative to FCC programs and operations and documenting the outcome of OIG reviews of those complaints and allegations;

Coordinating relationships with other Federal agencies, State and local governmental agencies, and nongovernmental entities in matters relating to the statutory responsibilities of the OIG; and

Acting as a repository and source for information necessary to fulfill the reporting requirements of the Inspector General Act of 1978, as amended.

The new system of records will consolidate the systems of records that the OIG currently uses to house all of its criminal and general investigative files with PII data in the various OIG information systems in a single OIG investigative files system of records.

DATES: In accordance with subsections (e)(4) and (e)(11) of the Privacy Act, any interested person may submit written comments concerning the proposed new system of records on or before September 26, 2011. The Office of Information and Regulatory Affairs (OIRA), Office of Management and Budget (OMB), which has oversight responsibility under the Privacy Act to review the system of records, and Congress may submit comments on or before October 5, 2011. The proposed new system of records will become effective on October 5, 2011 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street, SW., Washington, DC 20554, (202) 418-0217, or via the Internet at Leslie.Smith@fcc.gov.

FOR FURTHER INFORMATION CONTACT: Leslie F. Smith, Performance Evaluation and Records Management (PERM), Room 1-C216, Federal Communications Commission, 445 12th Street, SW., Washington, DC 20554, (202) 418-0217 or via the Internet at Leslie.Smith@fcc.gov.

SUPPLEMENTARY INFORMATION: As required by the Privacy Act of 1974, as amended, 5 U.S.C. 552a(e)(4) and (e)(11), this document sets forth notice of this proposed new system of records maintained by the FCC. The FCC previously gave complete notice of the two systems of records, FCC/OIG-1, “Criminal Investigative Files” and FCC/OIG-2, “General Investigative Files,” which it intends to cancel upon both the approval and deployment of FCC/OIG-3, “Investigative Files,” as referenced under this Notice by publication in the Federal Register on April 5, 2006 (71 FR 17234, 17245 and 17246 respectively). This notice is a summary of the more detailed information about the proposed new system of records, which may be viewed at the location given above in the ADDRESSES section. The purposes for adding this new system of records, FCC/OIG-3, “Investigative Files,” are for the FCC's Office of Inspector General (OIG) to use the records in FCC/OIG-3 pursuant to the Inspector General Act of 1978, as amended, for the purposes of:

1. Conducting and documenting investigations initiated and/or referred by or to the OIG or other investigative agencies regarding FCC programs and operations and reporting the results of investigations to other Federal agencies, other public authorities or professional organizations that have the authority to bring criminal prosecutions or civil or administrative actions, or to impose other disciplinary sanctions;

2. Documenting the outcome of OIG investigations;

3. Maintaining a record of the activities that were the subject of investigations;

4. Reporting investigative findings to the Commission management about problems and deficiencies in the FCC's programs and operations or to suggest corrective action in reference to identified irregularities, problems or deficiencies;

5. Maintaining a record of complaints and allegations received relative to FCC programs and operations and documenting the outcome of OIG reviews of those complaints and allegations;

6. Coordinating relationships with other Federal agencies, State and local governmental agencies, and nongovernmental entities in matters relating to the statutory responsibilities of the OIG; and

7. Acting as a repository and source for information necessary to fulfill the reporting requirements of the Inspector General Act of 1978, as amended.

The new system of records will consolidate the separate and independent systems of records that the OIG currently uses to house all of its criminal and civil investigative files with PII data in the various OIG information systems in a single OIG investigative files system of records.

This notice meets the requirement documenting the change to the systems of records that the FCC maintains, and provides the public, OMB, and Congress with an opportunity to comment.

FCC/OIG-3

SYSTEM NAME:

Investigative Files.

SECURITY CLASSIFICATION:

Sensitive, but not Classified.

SYSTEM LOCATION:

Office of Inspector General (OIG), Federal Communications Commission (FCC), 445 12th Street, SW., Washington, DC 20554.

CATEGORIES OF INDIVIDUALS COVERED BY THIS SYSTEM:

Included in this system are records on:

1. Individuals who are or have been the subjects of investigations conducted by the OIG; and

2. Individuals who are: witnesses, complainants, informants, suspects, defendants, parties identified by the OIG or by other agencies, constituent units of the FCC and members of the general public in connection with the authorized functions of the OIG.

CATEGORIES OF RECORDS IN THE SYSTEM:

The categories of records in this system include:

1. Files developed during investigations of known or alleged fraud, waste, and abuse, or other irregularities or violations of laws and regulations;

2. Files related to programs and operations administered or financed by the FCC, including contractors and others doing business with the FCC;

3. Files relating to FCC employees' hotline complaints and other miscellaneous complaints; and

4. Investigative reports and related documents, such as correspondence, notes, attachments, and working papers.

AUTHORITY FOR MAINTENANCE OF THE SYSTEM:

Inspector General Act of 1978, as amended.

PURPOSE(S):

Pursuant to the Inspector General Act of 1978, as amended, the system is maintained for the purposes of:

1. Conducting and documenting investigations initiated and/or referred by or to the OIG or other investigative agencies regarding FCC programs and operations and reporting the results of investigations to other Federal agencies, other public authorities or professional organizations that have the authority to bring criminal prosecutions or civil or administrative actions, or to impose other disciplinary sanctions;

2. Documenting the outcome of OIG investigations;

3. Maintaining a record of the activities that were the subject of investigations;

4. Reporting investigative findings to the Commission management about problems and deficiencies in the FCC's programs and operations or to suggest corrective action in reference to identified irregularities, problems or deficiencies;

5. Maintaining a record of complaints and allegations received relative to FCC programs and operations and documenting the outcome of OIG reviews of those complaints and allegations;

6. Coordinating relationships with other Federal agencies, State and local governmental agencies, and nongovernmental entities in matters relating to the statutory responsibilities of the OIG; and

7. Acting as a repository and source for information necessary to fulfill the reporting requirements of the Inspector General Act of 1978, as amended.

ROUTINE USES OF RECORDS MAINTAINED IN THE SYSTEM, INCLUDING CATEGORIES OF USERS AND THE PURPOSES OF SUCH USES:

The OIG may disclose information contained in a record in this system of records under the routine uses listed in this system of records without the consent of the individual if the disclosure is compatible with the purposes for which the record was collected:

1. Law Enforcement and Investigation—The OIG may disclose information from this system of records to any Federal, State, local, Tribal, or foreign agency or other public authority or professional organization responsible for administering, enforcing, investigating, or prosecuting violations of administrative, civil, or criminal law or regulations if that information is relevant to any remedial, enforcement, regulatory, investigative, or prosecutorial responsibility of the receiving entity;

2. Disclosure to Public and Private Entities to Obtain Information Relevant to FCC Functions and Duties—The OIG may disclose information from this system to public or private sources to the extent necessary to obtain information from those sources relevant to an OIG investigation or inspection;

3. Adjudication and Litigation—The OIG may disclose a record from this system to the United States Department of Justice (DOJ), or other Federal, state, local or other authorities responsible for litigation or adjudication if relevant and necessary to litigation or adjudication and disclosure is compatible with the purpose for which the records were collected. The OIG may make such a disclosure in the event that the one of the following parties is involved in the litigation or adjudication or has an interest in the litigation:

(a) The FCC or any component or program of the FCC;

(b) Any employee or agent of the FCC in his or her official capacity;

(c) Any employee of the FCC in his or her individual capacity if the DOJ has agreed to represent the employee or in connection with a request for that representation; or

(d) The United States, if the OIG determines that the litigation or adjudication is likely to affect the FCC;

4. Disclosure to Contractors and Consultants—The OIG may disclose a record from this system to the employees of any entity or individual with whom or with which the FCC contracts for the purpose of performing any functions or analyses that facilitate or are relevant to an OIG investigation, audit, inspection, or other inquiry. Before entering into such a contract, the OIG shall require the contractor to maintain Privacy Act safeguards, as required under the Federal Acquisition Regulations (FAR) Privacy Act provisions (Subparts 24.1 and 24.2) and include the specified contract clauses (Parts 52.224-1 and 52.224-2), as appropriate, to ensure that personal information by contractors who work on FCC-owned systems of records and the system data are protected as mandated;

5. Debarment and Suspension Disclosure—The OIG may disclose information from this system to the FCC or another Federal agency considering suspension or debarment action if the information is relevant to the suspension or debarment action. The OIG also may disclose information to the FCC or another agency to gain information in support of the FCC's own debarment and suspension actions.

6. Government-Wide Program Management and Oversight—The OIG may disclose a record from this system to the National Archives and Records Administration (NARA) for the purpose of records management inspections conducted under authority of 44 U.S.C. 2904 and 2906; when the U.S. Department of Justice (DOJ) is contacted in order to obtain that department's advice regarding disclosure obligations under the Freedom of Information Act or any other matter relevant to the FCC's programs or operations; or when the Office of Management and Budget (OMB) is contacted in order to obtain that office's advice regarding obligations under the Privacy Act.

7. Benefit Program Disclosure—The OIG may disclose a record from this system to any Federal, State, local, or other public authority, if relevant to the prevention or detection of fraud and abuse in benefit programs administered by any agency or public authority.

8. Financial Obligations Under the Debt Collection Acts—The OIG may disclose a record from this system to: other Federal agencies for the purpose of collecting and reporting on delinquent debts as authorized by the Debt Collection Act of 1982 or the Debt Collection Improvement Act of 1996; any Federal, state, or local agency to conduct an authorized computer matching program in compliance with the Privacy Act of 1974, as amended, to identify and locate individuals who are delinquent in their repayment of certain debts owed to the U.S. Government; prepare information on items considered income for taxation purposes to be disclosed to Federal, state, and local governments; or any Federal, State, local, or foreign agency, or other public authority, if relevant to the collection of other debts and overpayments owed to any agency or public authority.

9. Disclosure to the President's Council on Integrity and Efficiency (PCIE)—The OIG may disclose a record from this system to members and employees of the PCIE for the preparation of reports to the President and Congress on the activities of the Inspectors General;

10. Disclosure for Qualitative Assessment Reviews—The OIG may disclose a record from this system to members of the PCIE, the DOJ, the U.S. Marshals Service, or any Federal agency for the purpose of conducting qualitative assessment reviews of the investigative operations of the OIG to ensure that adequate internal safeguards and management procedures are maintained;

11. Breach of Federal Data—The OIG may disclose a record from this system to appropriate agencies, entities, and persons when (1) the OIG suspects or has confirmed that the security or confidentiality of information in the system of records has been compromised; (2) the OIG has determined that as a result of the suspected or confirmed compromise there is a risk of harm to economic or property interests, identity theft or fraud, or harm to the security or integrity of this system or other systems or programs (whether maintained by the FCC or another agency or entity) that rely upon the compromised information; and (3) the disclosure made to such agencies, entities, and persons is reasonably necessary to assist in connection with the OIG's efforts to respond to the suspected or confirmed compromise and prevent, minimize, or remedy such harm; and

In each of these cases, the OIG will determine whether disclosure of the records is compatible with the purpose(s) for which the records were collected, i.e., the OIG may make these disclosures on a case-by-case basis or, if the OIG has met the requirements of the Computer Matching and Privacy Protection Act, under a computer matching agreement.

DISCLOSURE TO CONSUMER REPORTING AGENCIES:

None.

POLICIES AND PRACTICES FOR STORING, RETRIEVING, ACCESSING, RETAINING, AND DISPOSING OF RECORDS IN THE SYSTEM:

STORAGE:

Information in this information system consists of paper records, documents, and files in file folders and electronic records, files, and data that are stored in the OIG databases that are part of the FCC's computer network.

RETRIEVABILITY:

Records, including both paper documents and files and electronic files and data, are filed alphabetically by name of the subject of the investigation or by a unique file number assigned to each investigation.

SAFEGUARDS:

The paper, diskette, and records contained in other media are kept in locked storage that is further secured at the end of each business day. Limited access to these records is permitted by those persons whose official duties require such access; thus, unauthorized examination during business hours would be easily detected.

The electronic records, files, and data are maintained in the FCC computer network databases. Access to the electronic files is restricted to authorized OIG supervisors and staff. Authorized OIG staff and OIG contractors and authorized staff and contractors in the FCC's Information Technology Center (ITC) have access to the electronic files on an “as needed” basis. The FCC's computer network databases are protected by the FCC's security protocols, which include controlled access, passwords, and other security features to prevent unauthorized users from gaining access to the data and system resources. Backup tapes are stored on-site and at a secured, off-site location.

RETENTION AND DISPOSAL:

Investigative and other files are retained and disposed of in accordance with OIG's Records Retention Policy.

SYSTEM MANAGER(S) AND ADDRESS:

Office of Inspector General (OIG), Federal Communications Commission (FCC), 445 12th Street, SW., Washington, DC 20554.

NOTIFICATION PROCEDURE:

Under the authority granted to heads of agencies by 5 U.S.C. 552a(k), the FCC has determined (47 CFR 0.561) that this system of records is exempt from the notification procedure for this system of records.

RECORD ACCESS PROCEDURES:

Under the authority granted to heads of agencies by 5 U.S.C. 552a(k), the FCC has determined (47 CFR 0.561) that this system of records is exempt from disclosing its record access procedures for this system of records.

CONTESTING RECORD PROCEDURE:

Under the authority granted to heads of agencies by 5 U.S.C. 552a(k), the FCC has determined (47 CFR 0.561) that this system of records is exempt from disclosing its contesting record procedures for this system of records.

RECORD SOURCE CATEGORIES:

Under the authority granted to heads of agencies by 5 U.S.C. 552a(k), the FCC has determined (47 CFR 0.561) that this system of records is exempt from disclosing its record sources for this system of records.

EXEMPTION FROM CERTAIN PROVISIONS OF THE ACT:

This system of records is exempt from sections (c)(3), (d), (e)(4)(G), (e)(4)(H), and (e)(4)(I), and (f) of the Privacy Act of 1974, 5 U.S.C. 552a, and from 47 CFR 0.554-0.557 of the Commission's rules. These provisions concern the notification, record access, and contesting procedures described above, and also the publication of record sources. The system is exempt from these provisions because it contains the types of materials described in section (k) of the Privacy Act.

Federal Communications Commission.
Marlene H. Dortch,
Secretary, Office of the Secretary, Office of Managing Director.

[FR Doc. 2011-21861 Filed 8-25-11; 8:45 am]

BILLING CODE 6712-01-P